DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the 28th session of the United Nation's Sub-Committee on Experts on the Transport of Dangerous Goods (UNSCOE) to be held November 28-December 7, 2005 in Geneva, Switzerland.

DATES: November 16, 2005 9:30 a.m.-12:30 p.m., Room 6244.

ADDRESSES: The meeting will be held at DOT Headquarters, Nassif Building, 400 Seventh Street SW., Washington, DC 20590.

FOR FURTHER INFORMATION CONTACT: Mr. Bob Richard, Director, Office of International Standards, or Mr. Duane Pfund, Senior International Transportation Specialist, Office of Hazardous Materials Safety, Department of Transportation, Washington, DC 20590; (202) 366-0656.

SUPPLEMENTARY INFORMATION: The primary purpose of this meeting will be to prepare for the 28th session of the UNSCOE and to discuss draft U.S. positions on UNSCOE proposals. The 28th session of the UNSCOE is the second meeting in the current biennium cycle. The UNSCOE will consider proposals for the 5th Revised Edition of the United Nations Recommendations on the Transport of Dangerous Goods Model Regulations. Topics to be covered during the public meetings include:

(1) Transport of compressed gases, (2) Transport of Dangerous Goods in limited and excepted quantities, (3) Requirements for Intermodal Bulk Containers (IBC), (4) Requirements for the construction and testing of packagings for Division 6.2 Infectious Substances, (5) Harmonization with the IAEA Regulations for the safe transport of radioactive materials, (6) Options to facilitate global harmonization of transport of dangerous goods regulations, (7) Miscellaneous proposals related to listing and classification and the use of packagings and tanks. The public is invited to attend without prior notification. Due to the heightened security measures participants are encouraged to arrive early to allow time for security checks necessary to obtain access to the building. In lieu of conducting a public meeting after the 28th session of the UNSCOE to present the results of the session, PHMSA will place a copy of the subcommittee's report and an updated copy of the pre-meeting summary document on PHMSA's Hazardous Materials Safety Homepage at http://hazmat.dot.gov/regs/intl/intstandards.htm.

Documents

Copies of documents for the UNSCOE meeting and the meeting agenda may be obtained by downloading them from the United Nations Transport Division's Web site at: http://www.unece.org/trans/main/dgdb/dgsubc/c32005.html. This site may also be accessed through PHMSA's Hazardous Materials Safety Homepage at http://hazmat.dot.gov/regs/intl/intstandards.htm. PHMSA's site provides additional information regarding the UNSCOE and related matters such as a summary of decisions taken at previous sessions of the UNSCOE.

Issued in Washington, DC, on October 21, 2005.
Robert A. McGuire,
Associate Administrator for Hazardous Materials Safety.

[FR Doc. 05-21467 Filed 10-26-05; 8:45am]

BILLING CODE 4910-60-M